FEDERAL COMMUNICATIONS COMMISSION

47 CFR Part 73

[DA No. 00-79, MM Docket No. 00-9, RM-9526]

Radio Broadcasting Services; Beaumont and Dayton, TX

AGENCY: Federal Communications Commission.

ACTION: Proposed rule.

SUMMARY: This document requests comments on a petition filed by KXTJ License, Inc. requesting the reallotment of Channel 300C from Beaumont, Texas, to Dayton, Texas, and modification of the license for Station KXTJ(FM) to specify Dayton, Texas, as the community of license. The coordinates for Channel 300C at Dayton are 30-00-56 and 94-31-37. In accordance with Section 1.420(i) of the Commission's Rules, we shall not accept competing expressions of interest in the use of Channel 300C at Dayton.

DATES: Comments must be filed on or before March 6, 2000, and reply comments on or before March 21, 2000,

ADDRESSES: Federal Communications Commission, 445 Twelfth Street, S.W., Washington, D.C. 20554. In addition to filing comments with the FCC, interested parties should serve the petitioner's counsel, as follows: Lawrence Roberts, Mary L. Plantamura, Davis Wright Tremaine LLP, 1500 K Street, N.W., Suite 450, Washington, DC. 20005.

FOR FURTHER INFORMATION CONTACT: Kathleen Scheuerle, Mass Media Bureau, (202) 418-2180.

SUPPLEMENTARY INFORMATION: This is a summary of the Commission's Notice of Proposed Rule Making, MM Docket No. 00-9, adopted January 12, 2000, and released January 14, 2000. The full text of this Commission decision is available for inspection and copying during normal business hours in the Commission's Reference Center, Washington, DC. The complete text of this decision may also be purchased from the Commission's copy contractors, International Transcription Services, Inc., 1231 20th Street, NW., Washington, DC. 20036, (202) 857-3800, facsimile (202) 857-3805. Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-1927 Filed 1-26-00; 8:45 am]

BILLING CODE 6712-01-U